DEPARTMENT OF COMMERCE

National Oceanic and Atmospheric Administration

[RTID 0648-XD867]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting via webinar of its Outreach and Communications Advisory Panel (AP) to discuss the educational component of Amendment 46 to the Snapper Grouper Fishery Management Plan for the South Atlantic. The amendment addresses permitting and education requirements for private recreational anglers targeting species in the snapper grouper management complex.

DATES: The AP meeting will be held from 10 a.m. until 12 p.m., EST on Wednesday, May 8, 2024.

ADDRESSES: The meeting will be held via webinar. Webinar registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including the webinar registration link, online public comment form, agenda, and briefing book materials will be posted on the Council's website at: https://safmc.net/advisory-panel-meetings/. Comments become part of the Administrative Record of the meeting and will automatically be posted to the website and available for Council consideration.

During the meeting, the AP will review guidance from the March 2024 Council meeting, further address the education component of Snapper Grouper Amendment 46 addressing permitting and education requirements for private recreational fishermen targeting snapper grouper species, and provide recommendations for Council consideration.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: April 15, 2024.
Rey Israel Marquez,
Acting Deputy Director, Office of Sustainable Fisheries, National Marine Fisheries Service.

[FR Doc. 2024-08325 Filed 4-17-24; 8:45 am]

BILLING CODE 3510-22-P